DEPARTMENT OF THE TREASURY

Office of Foreign Assets Control

Designation of 12 Individuals, 25 Entities, and 1 Blocked Property Pursuant to Executive Order 13581, “Blocking Property of Transnational Criminal Organizations”

AGENCY: Office of Foreign Assets Control, Treasury.

ACTION: Notice.

SUMMARY: The Treasury Department's Office of Foreign Assets Control (“OFAC”) is publishing the names of 12 individuals and 25 entities whose property and interests in property are blocked, as well as 1 property that is blocked, pursuant to Executive Order 13581 of July 24, 2011, “Blocking Property of Transnational Criminal Organizations.”

DATES: The designations by the Director of OFAC, pursuant to Executive Order 13581, of the 12 individuals, 25 entities, and 1 blocked property identified in this notice were effective on September 22, 2016.

FOR FURTHER INFORMATION CONTACT: The Department of the Treasury's Office of Foreign Assets Control: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Electronic and Facsimile Availability

This document and additional information concerning OFAC are available from OFAC's Web site (www.treas.gov/ofac) or via facsimile through a 24-hour fax-on-demand service, tel.: 202/622-0077.

Background

On July 24, 2011, the President issued Executive Order 13581, “Blocking Property of Transnational Criminal Organizations” (the “Order”), pursuant to, inter alia, the International Emergency Economic Powers Act (50 U.S.C. 1701-06). The Order was effective at 12:01 a.m. eastern daylight time on July 25, 2011. In the Order, the President declared a national emergency to deal with the threat that significant transnational criminal organizations pose to the national security, foreign policy, and economy of the United States.

Section 1 of the Order blocks, with certain exceptions, all property and interests in property that are in the United States, that come within the United States, or that are or come within the possession or control of any United States person, of persons listed in the Annex to the Order and of persons determined by the Secretary of the Treasury, in consultation with the Attorney General and the Secretary of State, to satisfy certain criteria set forth in the Order.

On September 22, 2016, the Director of OFAC, in consultation with the Attorney General and the Secretary of State, designated, pursuant to one or more of the criteria set forth in subparagraphs (a)(ii)(A) through (a)(ii)(C) of Section 1 of the Order, 12 individuals, 25 entities, and 1 blocked property whose property and interests in property are blocked pursuant to the Order.

The listings for these individuals, entities, and blocked property on OFAC's List of Specially Designated Nationals and Blocked Persons appear as follows:

Individual(s)

1. BOIVIN, Marie (a.k.a. BOIVIN, Marie Claude), 13 Beechgrove Gardens, Stittsville, Ottawa, Ontario K25 1W5, Canada; 2571 Carling Avenue, Ottawa, Ontario K2B 7H7, Canada; DOB 03 Jul 1975 (individual) [TCO] (Linked To: ACCU-RATE CORPORATION; Linked To: PACNET GROUP).

2. BOTTCHER, Monica Elizabete (a.k.a. BOTTCHER, Monica Elizabeth), 45 Knock Rushen, Castletown, Isle of Man IM9 1TQ, United Kingdom; DOB 26 Feb 1973 (individual) [TCO] (Linked To: PACNET BRAZIL; Linked To: PACNET GROUP).

3. DAVIS, Robert Paul (a.k.a. DAVIS, Paul; a.k.a. DAVIS, Paul Nadin; a.k.a. DAVIS, R. Paul Nadin; a.k.a. DAVIS, Robert; a.k.a. NADIN-DAVIS, Robert Paul), 45 Knock Rushen Scarlett, Castletown, Isle of Man IM9 1TQ, United Kingdom; 69 Buchanan Street, Glasgow, Scotland G1 3HL, United Kingdom; D11, Glyme Court, Oxford Office Village, Langford Lane, Kidlington, Oxon, England OX5 1LQ, United Kingdom; Avondale House, Queens Promenade, Douglas, Isle of Man IM2 4ND, United Kingdom; Parkshot House, 5 Kew Road, Richmond, Surrey TW9 2PR, United Kingdom; 1 Ros Na Greine, Balleycasey, Shannon, Ireland; 1 Ros Na Greinne, Balleycasey, Shannon, Co. Clare, Ireland; 70 Empress Court, Oxford, United Kingdom; 2571 Carling Avenue, Ottawa, Ontario K2B 7H7, Canada; DOB 19 Jan 1956; POB Fulwood, United Kingdom; Passport 460085575 (United Kingdom); alt. Passport VF275682 (Canada); alt. Passport BD103703 (Canada) (individual) [TCO] (Linked To: PACNET AIR; Linked To: PACNET EUROPE; Linked To: PACNET ZAR; Linked To: PACNET INDIA; Linked To: ACCU-RATE CORPORATION; Linked To: CHEXX ITALIA SRL; Linked To: CHEXX INC.; Linked To: COUNTING HOUSE SERVICES LTD.; Linked To: THE PAYMENTS FACTORY LTD.; Linked To: PACNET SERVICES LTD.; Linked To: PACNET SERVICES (IRELAND) LIMITED; Linked To: AEROPAY LIMITED; Linked To: MANX RARE BREEDS LTD.; Linked To: PACNET GROUP).

4. DAY, Rosanne Phyllis (a.k.a. DAY, Rosanne; a.k.a. DRONSFIELD, Rosanne Phyllis), 3928 West 22nd Avenue, Vancouver, British Columbia V65 1K1, Canada; 69 Buchanan Street, Glasgow, Scotland G1 3HL, United Kingdom; Parkshot House, 5 Kew Road, Richmond, Surrey TW9 2PR, United Kingdom; DOB 12 Mar 1968; nationality United Kingdom (individual) [TCO] (Linked To: DEEPCOVE LABS; Linked To: PACNET SERVICES LTD.; Linked To: PACNET ZAR; Linked To: CHEXX INC.; Linked To: PACNET EUROPE; Linked To: PACNET GROUP).

5. DRISCOLL, Mary Ann, Vancouver, British Columbia, Canada; DOB 01 Jun 1950 to 30 Jun 1950; nationality Canada (individual) [TCO] (Linked To: CHEXX INC.; Linked To: INDIAN RIVER (UK) LTD.; Linked To: PACNET GROUP).

6. FERLOW, Ruth (a.k.a. FERLOW, Ruth Hilda Rose), D11 Glyme Court, Oxford Office Village, Langford Lane, Kidlington, Oxon OX5 1LQ, United Kingdom; 4910 Keith Road, Vancouver, BC V7W 2NI, Canada; 4th Floor, 595 Howe Street, Vancouver, BC V6C 2TF, Canada; DOB 05 Jan 1967; nationality Canada (individual) [TCO] (Linked To: PACNET SERVICES LTD.; Linked To: CHEXX INC.; Linked To: INDIAN RIVER (UK) LTD.; Linked To: PACNET GROUP).

7. FERRARI, Raffaella, Parkshot House, 5 Kew Road, Richmond, Surrey TW9 2PR, United Kingdom; Kingston upon Thames, United Kingdom; 69 Buchanan Street, Glasgow, Scotland G1 3HL, United Kingdom; DOB 01 Nov 1972 to 30 Nov 1972; nationality Italy (individual) [TCO] (Linked To: PACNET SERVICES LTD.; Linked To: CHEXX ITALIA SRL; Linked To: THE PAYMENTS FACTORY LTD.; Linked To: COUNTING HOUSE SERVICES LTD.; Linked To: PACNET GROUP).

8. HANRAHAN, Siobhan Ann, Shannon Airport House, Shannon Free Zone, Shannon, County Clare, Ireland; Meadow View, Clonlohan, Newmarket-on-Fergus, County Clare, Ireland; DOB May 1972 (individual) [TCO] (Linked To: PACNET HOLDINGS LIMITED; Linked To: PACNET SERVICES LTD.; Linked To: PACNET CONNECTIONS LIMITED; Linked To: PACNET SERVICES (IRELAND) LIMITED; Linked To: AEROPAY LIMITED; Linked To: PACNET EUROPE; Linked To: PACNET GROUP).

9. HUMPHREYS, Gerard Alphonsus (a.k.a. HUMPHREYS, Gerry), Brittas House, Brittas, County Limerick, Ireland; D11 Glyme Court, Oxford Office Village, Langford Lane, Oxford Oxon OX5 1LQ, United Kingdom; DOB 17 Jul 1958; nationality Ireland; Passport B781829 (Ireland) (individual) [TCO] (Linked To: PACNET AIR; Linked To: PACNET HOLDINGS LIMITED; Linked To: CHEXX INC.; Linked To: PACNET SERVICES (IRELAND) LIMITED; Linked To: AEROPAY LIMITED; Linked To: PACNET EUROPE; Linked To: PACNET GROUP).

10. MACBAIN, Donna Maria, Parkshot House, 5 Kew Road, Richmond, Surrey TW9 2PR, United Kingdom; DOB 01 Feb 1979 to 28 Feb 1979; nationality United Kingdom (individual) [TCO] (Linked To: COUNTING HOUSE SERVICES LTD.; Linked To: PACNET SERVICES LTD.; Linked To: PACNET GROUP).

11. SNYMAN, Estelle, Shannon Airport House, Shannon, County Clare, Ireland; DOB 01 Nov 1964 to 30 Nov 1964 (individual) [TCO] (Linked To: PACNET HOLDINGS LIMITED; Linked To: PACNET GROUP).

12. WEEKES, Brian, Attyterilla, Ballygriffey Road, Ruan, County Clare, Ireland; DOB 18 Feb 1963 (individual) [TCO] (Linked To: PACNET EUROPE; Linked To: PACNET GROUP).

Entities

1. PACNET GROUP, Canada; Chile; United Kingdom; United States; Ireland; Brazil; France; Hong Kong; India; Malta; Switzerland; South Africa [TCO].

2. ACCU-RATE CORPORATION, 2573 Carling Ave., Ottawa, ON K2B 7H7, Canada; Web site www.accu-rate.ca; Registration ID M08609375 (Canada); Company Number 4131894 (Canada) [TCO] (Linked To: PACNET SERVICES LTD.; Linked To: DAVIS, Robert Paul; Linked To: BOIVIN, Marie; Linked To: PACNET EUROPE; Linked To: PACNET GROUP).

3. AEROPAY LIMITED (a.k.a. POINTS EAST LIMITED), D11 Glyme Court, Oxford Office Village, Langford Lane, Oxford Oxon OX5 1LQ, United Kingdom; 70 Empress Court, Woodin's Way, Oxford, Oxfordshire OX1 1HG, United Kingdom; Company Number 05648577 (United Kingdom) [TCO] (Linked To: PACNET SERVICES LTD.; Linked To: PACNET HOLDINGS LIMITED; Linked To: PACNET GROUP).

4. CHEXX INC. (a.k.a. CHEXX AMERICAS; a.k.a. CHEXX INC. LIMITED), 4th Floor, 595 Howe St., Vancouver, BC V6C 2T5, Canada; Shannon Airport House, Shannon, Co. Clare V14E370, Ireland; Bishopbrook House, Cathedral Avenue, Wells, Somerset BA5 1FD, United Kingdom; nationality Canada; alt. nationality United Kingdom; alt. nationality Ireland; Web site www.chexxinc.com; Company Number 04424343 (United Kingdom); alt. Company Number 209294 (Ireland); alt. Company Number 471636 (Ireland) [TCO] (Linked To: PACNET SERVICES LTD.; Linked To: PACNET EUROPE; Linked To: PACNET GROUP).

5. CHEXX ITALIA SRL, Largo San Giuseppe 3/32, Genova 16121, Italy; V.A.T. Number IT02326870991; Commercial Registry Number GE 477550 (Italy); Fiscal Code 02326870991 (Italy) [TCO] (Linked To: DAVIS, Robert Paul; Linked To: FERRARI, Raffaella; Linked To: PACNET GROUP).

6. COUNTING HOUSE SERVICES LTD. (a.k.a. UK COUNTING HOUSE LTD.), 595 Howe Street, 4th Floor, Vancouver, BC V6C 2T5, Canada; 410-900 Howe Street, Vancouver, British Columbia V672M4, Canada; 4410-900 Howe Street, Vancouver, BC V6Z 2M4, Canada; 5 Kew Road, Richmond, Surrey TW9 2PR, United Kingdom; 43 Princeton Highstown Rd., Suite D, Princeton Junction, NJ 08550, United States; Tel Aviv, Israel; Web site www.countinghouseservices.com; alt. Web site www.countinghouseltd.com; Registration ID 31000078006605 (United States); alt. Registration ID 31000078141851 (United States); alt. Registration ID M10716144 (Canada); Company Number 09835705 (United Kingdom); alt. Company Number BC0853818 (Canada) [TCO] (Linked To: MACBAIN, Donna Maria; Linked To: PACNET SERVICES LTD.; Linked To: FERRARI, Raffaella; Linked To: DAVIS, Robert Paul; Linked To: PACNET GROUP).

7. DEEPCOVE LABS (a.k.a. DEEPCOVE LABORATORIES LTD.), 4th Floor, 595 Howe Street, Vancouver, BC V6C 2T5, Canada; Web site www.deepcovelabs.com [TCO] (Linked To: PACNET SERVICES LTD.; Linked To: DAY, Rosanne Phyllis; Linked To: PACNET GROUP).

8. INDIAN RIVER (UK) LTD., D11 Glyme Court, Oxford Office Village, Langford Lane, Kidlington, Oxon OX5 1LQ, United Kingdom; Company Number 07927999 (United Kingdom) [TCO] (Linked To: PACNET CONNECTIONS LIMITED; Linked To: PACNET GROUP).

9. MANX RARE BREEDS LTD. (a.k.a. BALLALOAGHTAN FARM), The Barn Ballaloaghtan Kerrowkeil Hamlet, Grenaby IM9 3BB, United Kingdom; Web site www.manxrarebreeds.com [TCO] (Linked To: DAVIS, Robert Paul; Linked To: PACNET GROUP).

10. PACNET AIR (a.k.a. PACIFIC NETWORK AIR LTD.), Suite 3, 3rd Floor, Britannia House, St. Georges Street, Douglas, Isle of Man IM1 1JD, United Kingdom; Web site www.pacnetair.com; Company Number M1025900 (United Kingdom) [TCO] (Linked To: PACNET SERVICES LTD.; Linked To: PACNET GROUP).

11. PACNET BRAZIL (a.k.a. MMC CLUB; a.k.a. PACNET SERVICES DO BRASIL LTDA.; a.k.a. PACNET SERVICES DO BRASIL S S LTDA ME), Rue Adelino Fernandes 679, 1340 sala 6, Bairro Jardim Planalto, CEP 13160.000 Artur Nogueira, SP, Brazil; Rua Doutor Fernando Arens 679, Artur Nogueira, Sao Paulo 13160-000, Brazil; Identification Number 05032174000150 (Brazil) [TCO] (Linked To: PACNET SERVICES LTD.; Linked To: PACNET GROUP).

12. PACNET CHILE (a.k.a. THE PAYMENTS FACTORY CHILE LIMITADA), Av. Vicuna Mckenna 2598, Macul, Santiago de Chile, Chile [TCO] (Linked To: PACNET SERVICES LTD.; Linked To: PACNET GROUP).

13. PACNET CONNECTIONS LIMITED, Shannon Airport House, Shannon Free Zone, Co. Clare, Ireland; 4 Michael Street, Co. Limerick, Ireland; Registration ID 332576 (Ireland) [TCO] (Linked To: PACNET SERVICES LTD.; Linked To: PACNET GROUP).

14. PACNET EUROPE, Shannon Airport House, SFZ, Country Clare, Ireland; Web site www.pacnetservices.ie; alt. Web site www.pacnetservices.com [TCO] (Linked To: PACNET SERVICES LTD.; Linked To: PACNET GROUP).

15. PACNET FRANCE (a.k.a. PACNET SERVICES (FRANCE) SARL), 17 rue de Teheran, 75008 Paris, France [TCO] (Linked To: PACNET SERVICES LTD.; Linked To: PACNET GROUP).

16. PACNET HOLDINGS LIMITED (f.k.a. COUNTING HOUSE (EUROPE) LIMITED), Shannon Airport House, Shannon Free Zone, Co. Clare, Ireland; Four Michael Street, Limerick, Ireland; Registration ID EO348346 (Ireland) [TCO] (Linked To: PACNET SERVICES LTD.; Linked To: PACNET GROUP).

17. PACNET HONGKONG (a.k.a. PACNET SERVICES (HK) LTD.), 2001 Central Plaza, 18 Harbour Road, Wanchai, Hong Kong [TCO] (Linked To: PACNET SERVICES LTD.; Linked To: PACNET GROUP).

18. PACNET INDIA (a.k.a. PACNET SERVICES (INDIA) PRIVATE LIMITED), 208, Rewa Chambers, 31 New Marine Lines, Mumbai 400 020, India; National ID No. U67190MH2005PTC15766 (India) [TCO] (Linked To: PACNET SERVICES LTD.; Linked To: PACNET GROUP).

19. PACNET MALTA (a.k.a. PACNET SERVICES (MALTA) LTD.), The Dixcart Suite, Level 11, Le Meridien, St. Julians, Malta; The Dixcart Suite, Level 11, LE, 39, Main Street, Balluta Bay, St. Julians STJ1017, Malta; Company Number C 52227 (Malta) [TCO] (Linked To: PACNET SERVICES LTD.; Linked To: PACNET GROUP).

20. PACNET SERVICES (IRELAND) LIMITED, 222 Shannon Airport House, Shannon, Co. Clare, Ireland; Registration ID 452666 (Ireland) [TCO] (Linked To: PACNET HOLDINGS LIMITED; Linked To: PACNET GROUP).

21. PACNET SERVICES LTD. (a.k.a. PACIFIC NETWORK SERVICES LTD.; a.k.a. PACNET AMERICAS; a.k.a. PACNET CANADA; a.k.a. PACNET SERVICES AMERICAS LTD.), Fourth Floor, 595 Howe St, Vancouver, BC V6C 2T5, Canada; Parkshot House, 5 Kew Road, Richmond, Surrey, England TW9 2PR, United Kingdom; Registration ID M08842780 (Canada); Company Number BC0469083 (Canada); License 15128950 (Canada) [TCO] (Linked To: DAY, Rosanne Phyllis; Linked To: PACNET GROUP).

22. PACNET SUISSE (a.k.a. PACNET SERVICES (SUISSE) SA), Carrefour du Rive 1, Geneva, Switzerland; Alpenstrasse 15, 6304, Zug, Switzerland; Identification Number CHE-109.623.231 (Switzerland); alt. Identification Number CH66012280021 (Switzerland) [TCO] (Linked To: PACNET SERVICES LTD.; Linked To: PACNET GROUP).

23. PACNET UK (a.k.a. PACIFIC NETWORK SERVICES (UK) LTD.), The Old Mill, Park Road, Shepton Mallet, Somerset IK BA4 5BS, United Kingdom [TCO] (Linked To: PACNET SERVICES LTD.; Linked To: PACNET GROUP).

24. PACNET ZAR (f.k.a. GOLDEN DIVIDEND 234 (PTY) LTD.; a.k.a. PACNET SERVICES ZAR (PROPRIETARY) LTD.), 13 Wellington Road, Parktown, Johannesburg 2193, South Africa; 22 Wellington Road, Parktown, Western Cape 2193, South Africa; Private Bag X60500, Houghton, Guateng 2041, South Africa; Registration ID 200503498307 (South Africa); Tax ID No. 9871659141 (South Africa) [TCO] (Linked To: PACNET SERVICES LTD.; Linked To: PACNET GROUP).

25. THE PAYMENTS FACTORY LTD. (f.k.a. RUMENO SONCE 60 D.O.O.; a.k.a. THE PAYMENTS FACTORY D.O.O.; a.k.a. THE PAYMENTS FACTORY LLC; a.k.a. THE PAYMENTS FACTORY LLC—PERU; a.k.a. THE PAYMENTS FACTORY PERU LLC), 69 Buchanan Street, Glasgow, Scotland G1 3HL, United Kingdom; 4th Floor, 595 Howe Street, Vancouver, BC V6C 2T5, Canada; Suite 3, 3rd Floor, Britannia House, St. Georges Street, Douglas, Isle of Man IM1 1JD, United Kingdom; 1521 Concord Pike, #303, Wilmington, DE 19803, United States; Pasaje Retiro 574 of. 201, Ciudad Satelite, Santa Rosa, Provincia Callao, Peru; 2-22-7, Shibuya, Shibuya-ku, Tokyo 150-0002, Japan; Jr. Retiro No. 574, Dpto. 201, Callao 01, Peru; 3 Independent Dr., Jacksonville, FL 32202-5004, United States; Tehnoloski park 24, Ljubljana 1000, Slovenia; Shannon Airport House SFZ, County Clare V14 E370, Ireland; 89/247 Soi Ruammit Phatthana Yeak 1, Tharang Sub-District, Bang Kehn District, Bangkok Province, Thailand; Web site www.thepaymentsfactory.com; Business Registration Document # 6974988 (Slovenia); Tax ID No. 47210885 (Slovenia); Commercial Registry Number 20549092501 (Peru); Company Number SC514975 (United Kingdom) [TCO] (Linked To: DAVIS, Robert Paul; Linked To: FERRARI, Raffaella; Linked To: PACNET GROUP).

Blocked Property

1. N840PN; Aircraft Model 690c; Aircraft Operator Pacnet Air; Aircraft Manufacturer's Serial Number (MSN) 11679; Aircraft Tail Number N840PN (aircraft) [TCO] (Linked To: DAVIS, Robert Paul; Linked To: PACNET AIR; Linked To: PACNET GROUP).

Dated: September 22, 2016.
John E. Smith,
Acting Director, Office of Foreign Assets Control.

[FR Doc. 2016-23272 Filed 9-26-16; 8:45 am]

BILLING CODE P